FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted by early termination of the waiting period provided by law and the premerger notification rules. The grants were made by the Federal Trade Commission and the Assistant Attorney General for the Antitrust Division of the Department of Justice. Neither agency intends to take any action with respect to these proposed acquisitions during the applicable waiting period.

TRANS # | Acquiring | Acquired | Entities
TRANSACTIONS GRANTED EARLY TERMINATION—07/23/2002
20020924 | Centrica plc | American Electric Power Company, Inc | Mutual Energy CPL L.P. Mutual Energy WTU L.P.
20020967 | Liberty Media Corporation | Wink Communications, Inc | Wink Communications, Inc.
20020977 | Weston Presidio Capital IV, L.P | HWH Capital Partners, L.P | NBC Acquisition Corp.
20020983 | Brera Capital Partners Limited Partnership | Arias Acquisitions, Inc | Arias Acquisitions, Inc.
TRANSACTIONS GRANTED EARLY TERMINATION—07/24/2002
20020962 | Fonterra Co-operative Group Limited | New Zealand Dairy Board | New Zealand Dairy Board.
20020979 | Newfield Exploration Company | EEX Corporation | EEX Corporation.
20020981 | C-COR.Net Corp | Koninklijke Philips Electronics N.V | Philips Broadband Network, Inc.
20020988 | Cargill, Incorporated | Alliant Energy Corporation | Cargill-Alliant, LLC.
TRANSACTIONS GRANTED EARLY TERMINATION—07/25/2002
20020978 | SunGard Data Systems Inc | BRUT LLC | BRUT LLC.
TRANSACTIONS GRANTED EARLY TERMINATION—07/26/2002
20020917 | Sandvik AB | Milacron Inc. | Valenite Inc.
20020958 | Welsh, Carson, Anderson & Stowe IX, L.P. (WCAS IX) | Amdocs Limited | Amdocs Limited.
20020990 | First Data Corporation | Wachovia Corporation | Wachovia Merchant Service, L.L.C.
20020991 | Warburg, Pincus Equity Partners, L.P | Newfield Exploration Company | Newfield Exploration Company.
20020992 | Gary L. and Mary E. West | James F. Richards | Attention LLC.
20020994 | Midland Financial Co | National Australia Bank Limited | HomeSide Lending, Inc.
20020998 | FKA Distributing Co | Bank One Corporation | Maquiladora TCA De Juarez, SA. DE C.V. Metro Corporation. Taylor Precision Products, L.P.
20021001 | Permira Europe II L.P.2 | Ferretti S.p.A | Ferretti S.p.A.
20021005 | Equifax Inc | Naviant, Inc | Naviant, Inc
20021006 | Professor Kurt Jenny | IDEC Pharmaceuticals Corporation | IDEC Pharmaceuticals Corporation.
20021009 | Citigroup Inc | Antonius M. Kies | ERICO Holding Company.
20021011 | Cornerstone Equity Investors IV, L.P | Vestcom International, Inc | Vestcom International, Inc.
20021012 | Alimentation Couche-Tard Inc | Dairy Mart Convenience Stores, Inc | Dairy Mart Convenience Stores, Inc. Financial Opportunities, Inc.
TRANSACTIONS GRANTED EARLY TERMINATION—07/29/2002
20020975 | Mr. K. Rupert Murdoch | Mr. Fred Eychaner | Newsweb Corporation
TRANSACTIONS GRANTED EARLY TERMINATION—07/30/2002
20020938 | Constellation Energy Group, Inc | The AES Corporation | AES NewEnergy, Inc.
20020941 | Goodrich Corporation | TRW Inc | TRW Inc.
TRANSACTIONS GRANTED EARLY TERMINATION—07/31/2002
20020989 | Equifax Inc | CBC Companies, Inc | CBC Companies, Inc.
20021002 | Aktieselskabet Dampskibsselskabet TORM | Dampskibsselskabet “Norden” A/S | Dampskibsselskabet “Norden” A/S.
20021004 | Microchip Technology Incorporated | Fujitsu Limited | Fujitsu Microelectronics, Inc.
20021013 | Ripplewood Partners II, L.P | Leslie Jan Leff | AccuCorp Inc. L&R Realty Associates, Inc.
20021014 | Ripplewood Partners II, L.P | Ronnie H. Leff | AccuCorp Inc. L&R Realty Associates, Inc.
TRANSACTIONS GRANTED EARLY TERMINATION—08/01/2002
20020756 | Fair, Isaac and Company, Inc | HNC Software Inc | HNC Software Inc.
TRANSACTIONS GRANTED EARLY TERMINATION—08/02/2002
20020944 | George J. Petersen | William H. Geiger and Lee Anne F. Geiger | Aegis Research Corporation.
20020985 | Unit Corporation | KFOC Charitable Income Trust B | CREC Rig Acquisition Company.
20020986 | KFOC Charitable Income Trust B | Unit Corporation | Unit Corporation.

FOR FURTHER INFORMATION CONTACT: Sandra M. Peay, Contact Representative, Federal Trade Commission, Premerger Notification Office, Bureau of Competition, Room 303, Washington, DC 20580, (202) 326-3100.

By Direction of the Commission.
Donald S. Clark,
Secretary.

[FR Doc. 02-21972 Filed 8-27-02; 8:45 am]

BILLING CODE 6750-01-M